DEPARTMENT OF TRANSPORTATION

Office of the Secretary

14 CFR Part 330

[Docket OST-2001-10885]

RIN 2105-AD06

Procedures for Compensation of Air Carriers

Correction

In rule document 01-27177 beginning on page 54615 in the issue of Monday, October 29, 2001, the Federal Register inadvertently dropped the word “not” in an eligibility section of the rule in the course of editing and printing the document. This error made it appear that certain parties were eligible for government compensation when in fact the rule as drafted specifies the contrary. As a result, make the following correction:

PART 330—[CORRECTED]

On page 54622 in the first column, in the eighth line, insert the word “not” after “operator), you are”. As corrected, section 330.11 reads as follows:

§ 330.11 Which carriers are eligible to apply for compensation under this part?

(a) If you are a certificated air carrier, a commuter air carrier, or an air taxi, you are eligible to apply for compensation under Subpart B of this part.

(b) If you are an air freight forwarder (as described in 14 CFR part 296), public charter operator (as described in 14 CFR part 380), or other indirect air carrier (such as a contract bulk fare operator), you are not eligible to apply for compensation under this part.

(c) If you are a foreign air carrier, commercial operator, flying club, fractional owner, general aviation operator, fixed base operator, flight school, or ticket agent, you are not eligible to apply for compensation under this part.

[FR Doc. C1-27177 Filed 10-31-01; 2:24 pm]

BILLING CODE 1505-01-D